GENERAL SERVICES ADMINISTRATION

41 CFR Parts 300-3, 300-70, 301-2, 301-10, 301-11, 301-13, 301-53, 301-70, 301-71, Appendix C to Chapter 301, 304-3, and 304-5

[FTR Case 2020-300-1; Docket No. 2022-0005, Sequence No. 1]

RIN 3090-AK40

Federal Travel Regulation (FTR); Common Carrier Transportation

AGENCY: General Services Administration.

ACTION: Proposed rule.

SUMMARY: The U.S. General Services Administration (GSA) proposes to amend the Federal Travel Regulation (FTR) by adding definitions to the Glossary of Terms; adopting recommendations from agencies and the Senior Travel Official Council to simplify the FTR; consolidating duplicative regulations pertaining to the use of common carrier transportation accommodations; introducing premium economy airline accommodations as a class of service and creating management controls related to the use thereof; removing an outdated exception to use of a Contract City Pair fare; sequencing common carrier regulations in a more logical order; and making miscellaneous editorial corrections.

DATES: Interested parties should submit written comments to the Regulatory Secretariat Division at the address shown below on or before May 2, 2022 to be considered in the formation of the final rule.

ADDRESSES: Submit comments in response to FTR case 2020-300-1 to: Regulations.gov: https://www.regulations.gov. Submit comments via the Federal eRulemaking portal by searching for “FTR Case 2020-300-1”. Select the link “Comment Now” that corresponds with FTR Case 2020-300-1. Follow the instructions provided at the “Comment Now” screen. Please include your name, company name (if any), and “FTR Case 2020-300-1” on your attached document. If your comment cannot be submitted using https://www.regulations.gov, call or email the points of contact in the FOR FURTHER INFORMATION CONTACT section of this document for alternate instructions.

Instructions: Please submit comments only and cite FTR Case 2020-300-1, in all correspondence related to this case. Comments received generally will be posted without change to https://www.regulations.gov, including any personal and/or business confidential information provided. To confirm receipt of your comment(s), please check https://www.regulations.gov, approximately two to three days after submission to verify posting.

FOR FURTHER INFORMATION CONTACT: For clarification of content, contact Mr. Tom Mueller, Director of Travel, Relocation, Mail, and Transportation Division, Office of Government-wide Policy, at 202-208-0247 or by email at thomas.mueller@gsa.gov. For information pertaining to status or publication schedules, contact the Regulatory Secretariat Division at 202-501-4755 or GSARegSec@gsa.gov. Please cite FTR Case 2020-300-1.

SUPPLEMENTARY INFORMATION:

I. Background

Pursuant to 5 U.S.C. 5707, the Administrator of General Services is authorized to prescribe regulations regarding reimbursement for Federal employees traveling on official business away from their official duty stations. The overall implementing authority is the FTR, codified in Title 41 of the Code of Federal Regulations, Chapters 300-304 (41 CFR chapters 300-304).

GSA proposes amending the FTR by defining multiple terms, to include “coach class”, “other than coach class” (which includes “first class”, “business class”, and “premium economy class”), “contract City Pair Program”, “scheduled flight time”, and “usually traveled route”, along with making other minor editorial changes in the Glossary of Terms. This proposed rule also relocates regulations that are informational and not directive in nature, such as “What is an extra-fare train?” (FTR § 301-10.163), and more appropriately places them in the “Glossary of Terms”.

GSA amended the FTR on October 27, 2009 (74 FR 55145) to implement recommendations contained in the U.S. Government Accountability Office (GAO) report, “Premium Class Travel: Internal Control Weaknesses Governmentwide Led to Improper and Abusive Use of Premium Class Travel” (GAO-07-1268). The final rule replaced “first-class”, “business-class”, and “premium-class” with a broad term, “other than coach-class.” Since that time, changes in the airline industry, such as unbundling of services and the creation of classes of service between coach and business class, has created uncertainty on what accommodations must be reported as other than coach class. Consequently, GSA proposes to define the term “other than coach class” to include “first class”, “business class”, and “premium economy class”, while also clearly delineating that only first class and business class need to be reported as part of GSA's efforts to ensure against improper and abusive Government travel costs per GAO-07-1268.

Including premium economy class as its own class of service aligns with current commercial airline industry practice and acknowledges a potentially cost-saving alternative to business class accommodations for Federal travelers.

During the past 10 years, business class airline accommodations have accounted for about 97% of the cost of all reportable other than coach class transportation. Of the aforementioned 97% of business class air trips, 35% were authorized using the “14-hour rule” per FTR 301-10.125. As premium economy airline tickets tend to be less expensive than business class, particularly for flights to destinations outside the continental United States (OCONUS), GSA proposes to allow agencies to authorize premium economy accommodations when scheduled flight time exceeds eight hours and travel is to, from or between OCONUS locations, i.e., foreign and non-foreign areas. This exception for using premium economy is similar to travel allowances provided by the private sector and is aimed at reducing the use of first class and business class transportation with the anticipation that agencies will authorize premium economy where offered, instead of business or first class, when otherwise eligible. In the event a traveler is authorized to fly premium economy under the new eight-hour rule, eligibility for a rest period will still follow the 14-hour rule.

Some agencies have expressed the need for a rest period in excess of 24 hours when there is limited availability of scheduled departures, as travelers may encounter when traveling to certain foreign or remote locations. Accordingly, GSA proposes to add a note to section 301-11.20 informing agencies they may authorize a rest period in excess of 24 hours under the circumstances outlined in the proposed note.

Additionally, agencies are required to report annual travel data on certain types of travel per subpart B of FTR part 300-70. Premium class travel (formally known as “other than coach class” travel) is one such type of travel that requires annual reporting. Premium class travel reporting requirements are set forth in the FTR and do not have a statutorily mandated deadline for submission, which provides the Administrator of General Services latitude on setting reporting deadlines. Typically, several agencies request an extension to submit their premium class travel data. To provide agencies more time to review their data, GSA proposes to set the premium class travel reporting requirement as December 31 of each year (instead of the current 60 days after the end of each fiscal year).

GSA also proposes to refer to the “premium class” or “other than coach class” travel report as the “first class and business class” travel report as reporting will be limited to only first and business class accommodations. The renaming of this report will avoid confusion with the newly proposed definitions of “other than coach class” and “premium economy class”. Agencies will not report premium economy class or coach class seating upgrades in the first class and business class report as costs for both are likely to be substantially lower than business and first class accommodations and therefore pose less risk for travel cost abuse. To further reduce agency reporting burden, GSA proposes that negative submissions only be required for CFO Act agencies and agencies that reported the use of first class or business class accommodations for the previous reporting cycle. All other agencies may provide a negative report, but would not be required to do so. These changes, along with clarifying that agencies only need to report first class and business class accommodations, will promote a common understanding across Government and improve agency reporting requirements.

GSA also proposes several changes to the FTR based on recommendations from the Travel and Expense Management Federal Integrated Business Framework working group, established by GSA in April 2017, in which GSA worked with other agencies to develop baseline travel and expense management standards. For example, the group proposed removing an outdated City Pair Program exemption which allowed travelers to use a non-contract fare if smoking is permitted on the contract air carrier and the nonsmoking section of the contract aircraft is not acceptable (FTR § 301-10.107(e)). In 2000, smoking was banned on all scheduled U.S. domestic and international airline flights between the U.S. and another country (65 FR 36771), which eventually led to smoke-free policies for airlines worldwide. Consequently, GSA proposes to remove this outdated exception to Contract City Pair Program fare use.

This proposed rule also eliminates the duplicative language in the FTR on the classes of accommodations for each mode of common carrier transportation, i.e., FTR §§ 301-10.121 (air), 301-10.160 (rail), and 301-10.182 (ship), the requirement to use coach class accommodations for each mode, i.e., FTR §§ 301-10.122 (air), 301-10.161 (rail), and 301-10.183 (ship), and the duplicative regulations that prescribe exceptions to when a traveler may be authorized use of other than coach class accommodations, i.e., FTR §§ 301-10.123 (air), 301-10.162 (rail), and 301-10.183 (ship), into a single definition for “coach class”, one regulation on the requirement to use coach class, and one regulation governing when other than coach class may be authorized, irrespective of the mode of common carrier transportation. Further, this rule proposes to eliminate examples of exceptional security circumstances that currently accompany the exception for use of other than coach class, as such circumstances are determined by the agency.

The proposed rule also clarifies circumstances under which agencies may authorize the use of sleeping cars on trains.

Lastly, due in part to the consolidation and elimination of multiple regulations, this proposed rule resequences the common carrier regulations found in FTR part 301-10. It also makes other miscellaneous editorial changes.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Management and Budget's Office of Information and Regulatory Affairs (OIRA) anticipates that this will not be a significant regulatory action and, therefore, was not subject to review under Section 6(b) of E.O. 12866, Regulatory Planning and Review, dated September 30, 1993.

III. Congressional Review Act

Subtitle E of the Small Business Regulatory Enforcement Fairness Act of 1996 (codified at 5 U.S.C. 801-808), also known as the Congressional Review Act or CRA, generally provides that before a rule may take effect, the agency promulgating the rule must submit a rule report, which includes a copy of the rule, to each House of the Congress and to the Comptroller General of the United States. OIRA has determined that this proposed rule is not a “major rule” as defined by 5 U.S.C. 804(2).

IV. Regulatory Flexibility Act

GSA does not expect this proposed rule to have a significant economic impact on a substantial number of small entities within the meaning of the Regulatory Flexibility Act, 5 U.S.C. 601, et seq., because it applies only to Federal agencies and employees.

Therefore, an Initial Regulatory Flexibility Analysis has not been performed. GSA invites comments from small business concerns and other interested parties on the expected impact of this rulemaking on small entities.

GSA will also consider comments from small entities concerning the existing regulations in subparts affected by the rulemaking in accordance with 5 U.S.C. 610. Interested parties must submit such comments separately and should cite 5 U.S.C 610 (FTR Case 2020-300-1), in correspondence.

V. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects

41 CFR Part 300-3

Government employees, Travel and transportation expenses.

41 CFR Part 300-70

Government employees, Reporting and recordkeeping requirements, Travel and transportation expenses.

41 CFR Part 301-2

Government employees, Travel and transportation expenses.

41 CFR Part 301-10

Common carriers, Government employees, Government property, Travel and transportation expenses.

41 CFR Part 301-11

Government employees, Travel and transportation expenses.

41 CFR Part 301-13

Government employees, Individuals with disabilities, Travel and transportation expenses.

41 CFR Part 301-53

Government employees, Travel and transportation expenses.

41 CFR Part 301-70

Administrative practice and procedure, Government employees, Individuals with disabilities, Travel and transportation expenses.

41 CFR Part 301-71

Accounting, Government employees, Travel and transportation expenses.

41 CFR Part 304-3 and 304-5

Government employees, Travel and transportation expenses.

Krystal J. Brumfield,
Associate Administrator, Office of Government-wide Policy.

Under 5 U.S.C. 5707 and as discussed in the preamble, GSA proposes to amend 41 CFR parts 300-3, 300-70, 301-2, 301-10, 301-11, 301-13, 301-53, 301-70, 301-71, Appendix C to Chapter 301, 304-3, and 304-5 as set forth below:

PART 300-3—GLOSSARY OF TERMS

1. The authority citation for part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended, 3 CFR, 1971-1975 Comp., p. 586, Office of Management and Budget Circular No. A-126, revised May 22, 1992.

2. Amend § 300-3.1 by:

a. Adding, in alphabetical order, definitions for “Coach class”, “Coach class seating upgrade programs”, and “Contract City Pair Program”;

b. Revising the definition of “Common carrier;

c. Adding, in alphabetical order, definitions for “Extra-fare train” and ”Other than coach class”;

d. Revising the definition of “Privately owned automobile”; and

e. Adding, in alphabetical order, definitions for “Scheduled flight time” and “Usually traveled route”;

The revisions and additions read as follows:

§ 300-3.1 What do the following terms mean?

* * * * *

Coach class—The class of accommodation that is normally the lowest class of fare offered by common carriers regardless of terminology used. For reference purposes only, coach class may also be referred to as tourist class, economy class, steerage, or standard class.

Coach class seating upgrade programs—Under commercial air transportation seating upgrade programs, a passenger may obtain a preferable seat choice or increased amenities or services within the coach class seating area. These upgraded choices are generally available for a fee, as a program membership benefit (such as frequent flyer) or at an airport kiosk or gate. Coach class seating upgrade options are not considered a new or higher class of accommodation from coach as the seat is lower than other than coach class accommodations in terms of cost and amenities (e.g., seating girth and pitch, priority boarding, luggage allowance, expedited food/drink service).

* * * * *

Common carrier—Private sector supplier of air, rail, bus, ship, or other transit system.

* * * * *

Contract City Pair Program—A mandatory use (see § 301-10.110 for required users) Government program that provides commercially available scheduled air passenger transportation services to Government travelers on official business. The City Pair Program offers negotiated firm- fixed-price fares on one-way routes between airports that apply in either direction of travel. Fares may be issued using one of the following fare types, or others that the contract City Pair Program may solicit:

(1) Capacity-controlled coach class contract fare (_CA). A contract City Pair Program coach class fare that is less expensive than the unrestricted coach class fare (YCA), but has limited inventory availability, meaning, once the flight reaches a certain capacity, _CA fares may no longer be available for booking. Unlike YCA fares, _CA fares are restricted by the availability of seats. Accordingly, early booking may increase the likelihood of booking a _CA fare. The first character of the three-character fare basis code varies by airline.

(2) Unrestricted coach class contract fare (YCA). A contract City Pair Program coach class fare that is more expensive than a _CA fare, but offers last seat (inventory) availability (unless a flight is already sold out), meaning, as long as coach class inventory is available to sell on the flight, the Government traveler can purchase it.

(3) Contract business fare (_CB). Contract fare offered by carriers in some domestic and international line item markets for business class service. The first character of the three-character fare basis code varies by airline.

* * * * *

Extra-fare train-A train that operates at an increased fare due to the extra performance of the train, i.e., faster speed or fewer stops, or both.

* * * * *

Other than coach class—Any class of accommodations above coach class.

(1) First class. The highest class of accommodation offered by a common carrier in terms of cost and amenities.

(2) Business class. A class of accommodation offered by a common carrier that is lower than first class but higher than coach and premium economy, in cost and amenities.

(3) Premium economy class. A class of airline accommodation that is lower than both first class and business class, but higher than coach class in terms of cost and amenities. Airlines are constantly updating their offerings; however, for the purposes of this regulation, premium economy class is considered a separate, higher class of accommodation from coach class and is not considered a coach class seating upgrade.

* * * * *

Privately owned automobile—A car or light truck, including a van or a pickup truck, that is owned or leased for personal use by an individual, but not necessarily the traveler.

* * * * *

Scheduled flight time—The flight time between the originating departure point and the ultimate arrival point, as scheduled by the airline, including scheduled non-overnight time spent at airports during plane changes. Scheduled non-overnight time does not include time spent at the originating or ultimate arrival airports.

* * * * *

Usually traveled route—The most direct route between the employee's official station (or invitational traveler's home) and the temporary duty location, as defined by maps or consistent with established scheduled services of contract or other common carriers.

PART 300-70—AGENCY REPORTING REQUIREMENTS

3. The authority citation for 41 CFR part 300-70 continues to read as follows:

Authority: 5 U.S.C. 5707; 5 U.S.C. 5738; 5 U.S.C. 5741-5742; 20 U.S.C. 905(a); 31 U.S.C. 1353; 40 U.S.C. 121(c); 49 U.S.C. 40118; E.O. 11609, as amended, 3 CFR, 1971-1975 Comp., p. 586.

4. Amend subpart B of part 300-70 by revising the subpart heading to read as follows:

Subpart B—Requirement to Report Use of First Class and Business Class Transportation Accommodations

5. Revise the subpart B heading to read as follows:

§ 300-70.100 Who must report the use of first class and business class transportation accommodations?

* * * * *

6. Revise § 300-70.101 to read as follows:

§ 300-70.101 What information must we report on the use of first class and business class transportation accommodations?

GSA issues Bulletins that will inform you of the required information and reporting format(s) for each trip where you paid for at least one segment of first class or business class transportation accommodations that were more expensive than coach class accommodations for the same itinerary. FTR bulletins are updated as necessary and available at https://www.gsa.gov/ftrbulletins.

7. Revise § 300-70.102 to read as follows:

§ 300-70.102 When must we report on the use of first class and business class transportation accommodations?

You must report to the U.S. General Services Administration, Office of Government-wide Policy no later than December 31 of each year. The reporting period is October 1 through September 30. Negative submissions, i.e., no data to report, are required for Chief Financial Officers (CFO) Act agencies and agencies that reported the use of first class or business class transportation accommodations for the previous reporting cycle. All other agencies may provide a negative report.

8. Amend § 300-70.103 by revising the section heading, introductory text, and paragraphs (a) and (b) to read as follows:

§ 300-70.103 Are there any exceptions to the first class and business class reporting requirement?

Yes. You are not required to report data that is protected from public disclosure by statute or Executive Order. However, you are required to report the following aggregate information:

(a) Aggregate number of authorized first class and business class trips that are protected from disclosure;

(b) Total cost of actual first class and business class fares paid that exceeded the coach class fare; and

* * * * *

Part 301-2—GENERAL RULES

9. The authority citation for 41 CFR part 301-2 continues to read as follows:

Authority: 5 U.S.C. 5707; 31 U.S.C. 1353; 49 U.S.C. 40118.

10. Revise § 301-2.1 to read as follows:

§ 301-2.1 Must I have authorization to travel?

Yes, generally you must have written authorization before incurring any travel expense. When it is not practicable or possible to obtain such authorization before travel begins, your agency may approve reimbursement for specific travel expenses after travel is completed. However, written advance authorization is required for items in § 301-2.5(c), (i), (n), and (o) of this part.

11. Amend § 301-2.4 by adding a new sentence to the end of the section to read as follows:

§ 301-2.4 For what travel expenses am I responsible?

* * * Failure to provide sufficient justification to your voucher approving official for such accommodations or services will limit your reimbursement to the constructive cost of that which your agency determines to be the actual and necessary cost of the travel expense(s) to perform the official travel.

§ 301-2.5 [Amended]

12. Amend § 301-2.5, in paragraph (b) by removing “foreign air carrier” and adding in its place “foreign air carrier or foreign ship”.

PART 301—TRANSPORTATION EXPENSES

13. The authority citation for part 301-10 continues to read as follows:

Authority: 5 U.S.C. 5707, 40 U.S.C. 121(c); 49 U.S.C. 40118; Office of Management and Budget Circular No. A-126, “Improving the Management and Use of Government Aircraft.” Revised May 22, 1992.

14. Add §§ 301-10.101 through 301-10.104 to read as follows:

* * * * *

301-10.101 What classes of common carrier accommodations are available?
301-10.102 What class of common carrier accommodations must I use?
301-10.103 When may I use other than coach class accommodations?
301-10.104 What must I do if I change or do not use a common carrier reservation?

* * * * *

§ 301-10.101 What classes of common carrier accommodations are available?

Common carriers frequently update their levels of service and use various terminologies to distinguish those levels of service. For the purposes of this title, the classes of common carrier transportation are categorized as coach class, premium economy class, business class, and first class.

Note 1 to § 301-10.101: If an airline flight has only two classes of accommodations available, i.e., two distinctly different seating types (such as girth and pitch) and the front of the aircraft is termed “premium economy class” or higher by the airline and the tickets are fare coded as premium economy class or higher, then the front of the aircraft is deemed to be other than coach class. Alternatively, if an airline flight has only two seating sections available but equips both with one type of seating, (i.e., seating girth and pitch are the same in both sections of the aircraft), and the seats in the front of the aircraft are fare coded as full fare economy class, and only restricted economy fares are available in the back of the aircraft, then the entire aircraft is to be classified as coach class. In this second situation, qualifying for other than coach class travel is not required to purchase an unrestricted full fare economy seat in the front of the aircraft as the entire aircraft is considered “coach class.”

§ 301-10.102 What class of common carrier accommodations must I use?

For all official travel you must use coach class accommodations, unless your agency authorizes or approves the use of other than coach class accommodations as provided under § 301-10.103.

§ 301-10.103 When may I use other than coach class accommodations?

You are required to exercise the same care in incurring expenses that a prudent person would exercise if traveling on personal business when making official travel arrangements. Therefore, you are required to use the least expensive class of accommodations necessary to meet your needs and accomplish the agency's mission. You may use the lowest other than coach class accommodations only when your agency specifically authorizes or approves such use as specified in paragraph (a), (b), or (c) of this section.

(a) Your agency may authorize or approve reimbursement for premium economy class accommodations when:

(1) Required to accommodate a medical disability or other special need;

(i) A disability must be certified annually in a written statement by a competent medical authority. However, if the disability is a lifelong condition, then a one-time certification statement is required. Certification statements must include at a minimum:

(A) A written statement by a competent medical authority stating that special accommodation is necessary;

(B) An approximate duration of the special accommodation; and

(C) A recommendation as to the suitable class of transportation accommodations based on the disability.

(ii) A special need must be certified annually in writing according to your agency's procedures. However, if the special need is a lifelong condition, then a one-time certification statement is required;

(iii) If you are authorized under § 301-13.3(a) of this subchapter to have an attendant accompany you, your agency may also authorize the attendant to use premium economy class accommodations if you require the attendant's services en route;

(2) Exceptional security circumstances, as determined by your agency, require premium economy class accommodations;

(3) Coach class accommodations on an authorized foreign carrier do not provide adequate sanitation or health standards;

(4) Regularly scheduled service between origin and destination points, including connecting points, provide only other than coach class accommodations and you certify such on your voucher;

(5) Your common carrier costs are paid in full through agency acceptance of payment from a non-Federal source in accordance with chapter 304 of this title;

(6) Your origin and/or destination are OCONUS and your scheduled flight time, including stopovers and change of planes, is in excess of eight hours;

(7) The use results in an overall cost savings to the Government by avoiding additional subsistence costs, overtime, or lost productive time while awaiting coach class accommodations;

(8) No space is available in coach class accommodations that allow you to arrive in time to accomplish the mission, which is urgent and cannot be postponed; or

(9) Required because of agency mission, consistent with your agency's internal procedures pursuant to § 301-70.102(i).

(b) Your agency may authorize or approve reimbursement for business class accommodations under paragraphs (a)(1) through (5) and (a)(7) through (9) of this section, or when:

(1) Your origin and/or destination are OCONUS;

(2) Your scheduled flight time, including stopovers and change of planes, is more than 14 hours;

(3) You are required to report to duty the following day or sooner; and

(4) Your agency has determined business class accommodations are more advantageous than authorizing a rest period en route or at your destination pursuant to § 301-11.20.

(c) Your agency may authorize or approve reimbursement for first class accommodations under paragraph (a)(1), (2), or (9) of this section, or when no coach class, premium economy class, or business class accommodations are reasonably available. “Reasonably available” means available on a common carrier that is scheduled to leave within 24 hours of your proposed departure time, or scheduled to arrive within 24 hours of your proposed arrival time.

Note 1 to § 301-10.103: Other than coach class accommodations, including upgraded contract City Pair Program fares, may be obtained at a traveler's personal expense, including through redemption of program membership benefits, such as frequent flyer.

§ 301-10.104 What must I do if I change or do not use a common carrier reservation?

If you know you will change or not use your reservation, you must take action to change or cancel it as prescribed by your agency. Also, you must report all changes of your reservation according to your agency's procedures in an effort to prevent losses to the Government. Failure to do so may subject you to liability for any resulting losses.

15. Revise § 301-10.105 to read as follows:

§ 301-10.105 What must I do with unused Government Transportation Request(s) (GTR(s)), ticket(s) or refund application(s)?

You must submit any unused GTR(s), unused ticket coupons, unused e-tickets, unused e-vouchers, or refund applications to your agency in accordance with your agency's procedures.

16. Remove the undesignated center heading “Use of Contract City-Pair Fares” that appears above § 301-10.106.

17. Revise § 301-10.106 to read as follows:

§ 301-10.106 Am I authorized to receive or keep a refund or credit for unused transportation?

No. You are not authorized to receive or keep a refund, credit, or any other negotiable document from a transportation service provider for undelivered services (except as provided in § 301-10.123) or any portion of an unused ticket issued in exchange for a GTR or billed to an agency's centrally billed account. However, any charges billed directly to your individually billed Government charge card account should be credited to your account. You must immediately remit to the Government for any unused transportation expense(s) credited to your individually billed Government charge card account.

§ § 301-10.107 through 109 [Removed and Reserved]

18. Remove and reserve §§ 301-10.107 through 301-10.109.

19. Add an undesignated subpart heading before § 301-10.110 to read as follows:

Use of Contract City Pair Program Fares

* * * * *

301-10.110 When must I use a contract City Pair Program fare?
301-10.111 Are there any exceptions to the use of a contract City Pair Program fare?
301-10.112 What requirements must be met to use a non-contract fare?301-10.104 What must I do if I change or do not use a common carrier reservation?
301-10.113 What is my liability for unauthorized use of a non-contract carrier when contract service is available and I do not meet one of the exceptions for required use?
301-10.114 May I use contract passenger transportation service for personal travel?

* * * * *

20. Revise §§ 301-10.110 through 301-10.114 to read as follows:

§ 301-10.110 When must I use a contract City Pair Program fare?

If you are an employee of an agency as defined in § 301-1.1 of this chapter, you must use a contract City Pair Program fare for scheduled air passenger transportation service unless one of the limited exceptions in § 301-10.111 exists.

Note 1 to § 301-10.110: When a contract City Pair Program carrier offers a lower cost capacity-controlled coach class contract fare (_CA) and an unrestricted coach class contract fare (YCA), you must use the lower cost capacity-controlled fare when it is advantageous and meets mission needs. A listing of contract City Pair Program fares is available at https://www.gsa.gov/citypairs.

Note 2 to § 301-10.110: Employees of the Government of the District of Columbia, with the exception of the District of Columbia Courts, are not eligible to use contract City Pair Program fares even though these employees otherwise may be covered by the FTR.

§ 301-10.111 Are there any exceptions to the use of a contract City Pair Program fare?

Yes, your agency may authorize use of a non-contract fare when:

(a) There are no accommodations available on any scheduled contract City Pair Program flight arriving to your destination in time to accomplish the purpose of your travel or use of contract service would require you to incur unnecessary overnight lodging cost which would increase the total cost of the trip;

(b) The contractor's flight schedule is inconsistent with explicit policies of your Federal department or agency with regard to scheduling travel during normal working hours;

(c) A non-contract carrier offers a lower fare to the general public that, if used, will result in a lower total trip cost to the Government (the combined costs of transportation, lodging, meals, and related expenses considered); or

Note to paragraph (c): This exception does not apply if the contract carrier offers the same or lower fare and has seats available at that fare, or if the fare offered by the non-contract carrier is restricted to Government and military travelers performing official business and may be purchased only with a contractor-issued charge card, centrally billed account (e.g., YDG, MDG, QDG, VDG, and similar fares) or GTR where the two previous options are not available.

(d) Cost effective rail transportation is available and is consistent with mission requirements.

Note 2 to § 301-10.111: A group of 10 or more passengers traveling together on the same day, on the same flight, for the same mission, requiring group integrity and identified as a group by the travel management service upon booking is not a mandatory user of the Government's contract City Pair Program fares. For group travel, agencies are expected to obtain air passenger transportation service that is practical and cost effective to the Government.

Note 3 to § 301-10.111: Contractors are not authorized to use contract City Pair Program fares to perform travel under their contracts.

Note 4 to § 301-10.111: Carrier preference is not a valid exception for using a non-contract City Pair Program fare.

§ 301-10.112 What requirements must be met to use a non-contract fare?

(a) Before purchasing a non-contract fare you must meet one of the exception requirements listed in § 301-10.111 and show approval on your travel authorization to use a non-contract fare; and

(b) If the non-contract fare is non-refundable, restricted, or has specific eligibility requirements, you must know or reasonably anticipate, based on your planned trip, that you will use the ticket; and

(c) Your agency must determine that the proposed non-contract transportation is practical and cost effective for the Government.

§ 301-10.113 What is my liability for unauthorized use of a non-contract carrier when contract service is available and I do not meet one of the exceptions for required use?

You are responsible for any additional costs or penalties incurred by you resulting from unauthorized use of non-contract service.

§ 301-10.114 May I use contract passenger transportation service for personal travel?

No, you may not use contract passenger transportation service for personal travel.

§ 301-10.115 through 301-10.117 [Removed and Reserved]

21. Remove and reserve §§ 301-10.115 through 301-10.117.

§ 301-10.118 and 301-10.119 [Reserved]

22. Add reserved §§ 301-10.118 and 301-10.119.

23. Add § 301-10.120 after the undesignated center heading “Airline Accommodations” to read as follows:

§ 301-10.120 What must I do when different airlines furnish the same service at different fares?

When there is no contract City Pair Program fare and other carriers furnish the same service at different fares between the same points for the same type of accommodations, you must use the lowest cost service unless your agency determines that the use of higher cost service is more advantageous to the Government.

24. Revise §§ 301-10.121 through 301-10.124 to read as follows:

* * * * *
301-10.121 When may I use coach class seating upgrade programs?
301-10.122 What must I do with compensation an airline gives me if it denies me a seat on a plane?
301-10.123 May I keep compensation an airline gives me for voluntarily vacating my seat on my scheduled airline flight when the airline asks for volunteers?
301-10.124 When may I use a reduced group or charter fare?
* * * * *

§ 301-10.121 When may I use coach class seating upgrade programs?

Use of upgraded coach class seating options is generally a traveler's personal choice and therefore is at the traveler's personal expense. However, your agency approving official may approve reimbursement of the additional seat choice fee according to part 301-13 of this chapter or internal agency policy (see § 301-70.102(k)).

§ 301-10.122 What must I do with compensation an airline gives me if it denies me a seat on a plane?

If you are performing official travel and a carrier denies you a confirmed reserved seat on a plane, you must give your agency any payment you receive for liquidated damages. You must ensure the carrier shows the “Treasurer of the United States” as payee on the compensation check and then forward the payment to the appropriate agency official.

§ 301-10.123 May I keep compensation an airline gives me for voluntarily vacating my seat on my scheduled airline flight when the airline asks for volunteers?

(a) Yes, you may keep airline compensation if:

(1) Voluntarily vacating your seat will not interfere with performing your official duties; and

(2) Additional travel expenses, incurred as a result of vacating your seat, are borne by you and are not reimbursed by the Government.

(b) If volunteering delays your travel during duty hours, your agency will charge you with annual leave for the additional hours.

§ 301-10.124 When may I use a reduced group or charter fare?

You may use a reduced group or charter fare when your agency has determined, on an individual case basis before your travel begins, that use of such a fare is cost effective. Chartered aircraft are subject to the same rules as Government aircraft, and agencies in the executive branch of the Federal Government are subject to the requirements of Office of Management and Budget (OMB) Circular A-126 and 41 CFR part 102-33 in making such cost effectiveness determinations.

§ § 301-10.125 [Removed and Reserved]

25. Remove and reserve § 301-10.125.

§ § 301-10.126 through 301-10.129 [Reserved]

26. Add reserved §§ 301-10.126 through 301-10.129.

§ 301-10.130 [Reserved]

27. Add reserved § 301-10.130 after the undesignated center heading “Use of United States Flag Air Carriers”.

§ § 301-10.144 through 301-10.159 [Reserved]

28. Add reserved §§ 301-10.144 through 301-10.159.

29. Revise §§ 301-10.160 and 301-10.161 to read as follows:

§ 301-10.160 When may I use extra-fare train service?

You may use extra-fare train service whenever your agency determines it is more advantageous to the Government or is required for security reasons. Use of extra-fare train service must be authorized or approved as other than coach class accommodations as provided in §§ 301-10.103(b) and 301-10.103(c).

§ 301-10.161 When may I use sleeping accommodations aboard train service?

You may use the lowest class of sleeping accommodations aboard a train that meets your mission needs when overnight travel is required and your agency determines it is advantageous to the Government.

§ § 301-10.162 through 301-10.164 [Removed and Reserved]

30. Remove and reserve §§ 301-10.162 through 301-10.164.

§ § 301-10.165 through 301-10.179 [Reserved]

31. Add and reserve §§ 301-10.165 through 301-10.179.

32. Revise § 301-10.180 to read as follows:

§ 301-10.180 Must I travel by a U.S. flag ship?

Yes, when authorized to travel by ship you must use a U.S. flag ship when one is available unless the necessity of the mission requires the use of a foreign ship. (See 46 U.S.C. 55302).

§ § 301-10.182 and 183 [Removed and Reserved]

33. Remove and reserve §§ 301-10.182 and 301-10.183.

§ § 301-10.184 through 301-10.189 [Reserved]

34. Add and reserve §§ 301-10.184 through 301-10.189.

PART 301-11—PER DIEM EXPENSES

35. The authority citation for 41 CFR part 301-11 continues to read as follows:

Authority: 5 U.S.C. 5707.

36. Amend § 301-11.20 by revising paragraph (a) and adding Note 1 to read as follows:

§ 301-11.20 May my agency authorize a rest period for me while I am traveling?

(a) Your agency may authorize a rest period not in excess of 24 hours at either an intermediate point or at your destination when:

(1) Either your origin or destination is OCONUS;

(2) Your scheduled flight time, including stopovers, exceeds 14 hours;

(3) Travel is by a direct or usually traveled route; and

(4) Travel is by coach class or premium economy class.

* * * * *

Note 1 to § 301-11.20: Your agency may authorize a rest period that exceeds 24 hours when no scheduled transportation service departs within 24 hours of your arrival at an intermediate point. To qualify for a rest period exceeding 24 hours, you must be scheduled to board the first available scheduled departure. Your agency will determine a reasonable additional length of time for any rest period exceeding 24 hours.

37. Amend § 301-11.26 by revising the table to read as follows: in the second row of the second column of the table by removing “SP&P/Allowances Branch” and adding “Policy and Regulations Division” in its place, and by removing “Suite 04J325-01” and adding “Suite 04J25-01” in its place.

For CONUS locations | For non-foreign area locations | For foreign area locations
General Services Administration, Office of Government-wide Policy, 1800 F St. NW, Washington, DC 20405 | Defense Travel Management Office, Attn: Policy and Regulations Division, 4800 Mark Center Drive, Suite 04J25-01, Alexandria, VA 22350-9000 | Director, Office of Allowances, Department of State, Annex 1, Suite L-314, Washington, DC 20522-0103.

PART 301-13—TRAVEL OF AN EMPLOYEE WITH SPECIAL NEEDS

38. The authority citation for 41 CFR part 301-13 continues to read as follows:

Authority: 5 U.S.C. 5707.

39. Amend § 301-13.3 by revising the introductory paragraph and paragraph (f) to read as follows:

§ 301-13.3 What additional travel expenses may my agency pay under this part?

Your agency approving official may pay for any expenses deemed necessary by your agency to accommodate your special need including, but not limited to, the following expenses:

* * * * *

(f) Other than coach class accommodations to accommodate your special need, under subpart B of part 301-10 of this subchapter; and

* * * * *

PART 301-53—USING PROMOTIONAL MATERIAL AND FREQUENT TRAVELER PROGRAMS

40. The authority citation for part 301-53 continues to read as follows:

Authority: 5 U.S.C. 5707; 31 U.S.C. 1353.

§ 301-53.4 [Amended]

41. Amend § 301-53.4 by removing “§§ 301-10.109 and 301-10.110” and adding “§§ 301-10.113 and 301-10.114” in its place.

42. Revise § 301-53.5 to read as follows:

§ 301-53.5 Are there exceptions to the mandatory use of contract City Pair Program fares and an agency's travel management service?

Yes, the exceptions are in accordance with §§ 301-10.111 and 301-10.112 of this chapter for the mandatory use of a contract City Pair Program fare, and § 301-73.103 of this chapter for the mandatory use of a travel management service.

§ 301-53.6 [Amended]

43. Amend § 301-53.6 by removing “§ 301-10.116” and “§ 301-10.117” and adding “§ 301-10.122” and “§ 301-10.123” in their places, respectively.

PART 301-70—INTERNAL POLICY AND PROCEDURE REQUIREMENTS

44. The authority citation for part 301-70 continues to read as follows:

Authority: 5 U.S.C. 5707; 40 U.S.C. 121(c); Sec. 2, Pub. L. 105-264, 112 Stat. 2350 (5 U.S.C. 5701, note); OMB Circular No. A-126, revised May 22, 1992; OMB Circular No. A-123, Appendix B, revised January 15, 2009.

45. Amend § 301-70.102 by revising paragraphs (b)(1) and(3), (d), (i), and (k) to read as follows:

§ 301-70.102 What governing policies must we establish for authorization and payment of transportation expenses?

* * * * *

(b) * * *

(1) Use of other than coach class transportation under § 301-10.103 of this chapter;

* * * * *

(3) Use of an extra-fare train service under § 301-10.160;

* * * * *

(d) When you consider the use of a POV advantageous to the Government, such as travel to and from common carrier terminals or to the TDY location. When determining whether the use of a POV to a TDY location is the most advantageous method of transportation, you must consider the total cost of using a POV as compared to the total cost of using a rental vehicle, including rental costs, fuel, taxes, parking (at a common carrier terminal—not to exceed the cost of taxi or transportation network company fare, etc.), and any other relevant costs;

* * * * *

(i) Develop and issue internal guidance on what specific mission criteria justify use of other than coach class transportation under § 301-10.103(a)(9) and the use of other than the least expensive compact car available under § 301-10.450(c). The justification criteria shall be noted on the traveler's authorization.

* * * * *

(k) Develop and publish internal guidance regarding when coach class seating upgrade fees will be authorized as advantageous to the Government and reimbursed (see § 301-10.121).

46. Amend § 301-70.401 by revising paragraph (a) to read as follows:

§ 301-70.401 What governing policies and procedures must we establish regarding travel of an employee with a disability or special need?

* * * * *

(a) Who will determine if an employee has a disability or special need which requires accommodation, including when documentation is necessary under §§ 301-10.103 and 301-10.121, and when a determination may be based on a clearly visible and discernible physical condition; and

* * * * *

PART 301-71—AGENCY TRAVEL ACCOUNTABILITY REQUIREMENTS

47. The authority citation for 41 CFR part 301-71 continues to read as follows:

Authority: 5 U.S.C. 5707; 40 U.S.C. 121(c); Sec. 2, Pub. L. 105-264, 112 Stat. 2350 (5 U.S.C. 5701 note).

48. Amend § 301-71.105 by revising to read as follows:

§ 301-71.105 Must we issue a written travel authorization in advance of travel?

Yes, except when advance written authorization is not possible or practical and approval is in accordance with §§ 301-2.1, 301-2.5, or 304-3.13. However, the following always require advance written authorization:

(a) Use of reduced fares for group or charter arrangements;

(b) Payment of a reduced rate per diem;

(c) Acceptance of payment from a non-Federal source for travel expenses (see chapter 304 of this title); and

(d) Travel expenses related to attendance at a conference.

Appendix C to Chapter 301

49. Amend appendix C to chapter 301 by—

a. Revising the entry for “Transportation Method Indicator” in the table for “Commercial Transportation Information”; and revising the entry for “Transportation Method Indicator” in the table “Travel Expense Information”. The revisions read as follows:

Appendix C to Chapter 301—Standard Data Elements for Federal Travel [Traveler Identification]

* * * * *

Commercial Transportation Information
Group name | Data elements | Description
* * * * * * *
Transportation Method Indicator | Air (other than coach class) | Common carrier used as transportation to TDY location.
| Air (coach class)
| Non-contract Air, Train, Other
* * * * * * *

Travel Expense Information
Group name | Data elements | Description
* * * * * * *
Transportation Method Indicator | Air (other than coach class) | The amount of money the transportation actually cost the traveler, entered according to method of transportation.
| Air (coach class)
| Non-contract Air, Train
| Other | Bus or other form of transportation.
* * * * * * *

* * * * *

PART 304-3—EMPLOYEE RESPONSIBILITY

50. The authority citation for part 304-3 continues to read as follows:

Authority: 5 U.S.C. 5707; 31 U.S.C. 1353.

51. Revise § 304-3.9 to read as follows:

§ 304-3.9 May I use other than coach class accommodations on common carriers when a non-Federal source pays in full for my common carrier expenses to attend a meeting?

Yes, you may use other than coach class accommodations on common carriers if you meet one of the criteria contained in § 301-10.103 of this title, and are authorized to do so by your agency in accordance with § 304-5.5 of this chapter.

PART 304-5—AGENCY RESPONSIBILITIES

52. The authority citation for 41 CFR part 304-5 continues to read as follows:

Authority: 5 U.S.C. 5707; 31 U.S.C. 1353.

52. Amend § 304-5.5 by revising the section heading, introductory text, and paragraph (c) to read as follows:

§ 304-5.5 May we authorize an employee to use other than coach class accommodations on common carriers if we accept payment in full from a non-Federal source for such transportation expenses?

Yes, you may authorize an employee to use other than coach class accommodations on common carriers as long as the:

* * * * *

(c) Travel meets at least one of the conditions in § 301-10.103 of this title.

[FR Doc. 2022-03068 Filed 3-2-22; 8:45 am]

BILLING CODE 6820-14-P